DEPARTMENT OF COMMERCE

Foreign-Trade Zones Board

[Order No. 1363]

Grant of Authority for Subzone Status, Turbomeca U.S.A. (Helicopter Engines), Grand Prairie, TX

Pursuant to its authority under the Foreign-Trade Zones Act, of June 18, 1934, as amended (19 U.S.C. 81a-81u), the Foreign-Trade Zones Board (the Board) adopts the following Order:

Whereas, the Foreign-Trade Zones Act provides for “ * * * the establishment * * * of foreign-trade zones in ports of entry of the United States, to expedite and encourage foreign commerce, and for other purposes,” and authorizes the Foreign-Trade Zones Board to grant to qualified corporations the privilege of establishing foreign-trade zones in or adjacent to U.S. Customs ports of entry;

Whereas, the Board's regulations (15 CFR Part 400) provide for the establishment of special-purpose subzones when existing zone facilities cannot serve the specific use involved, and when the activity results in a significant public benefit and is in the public interest;

Whereas, the Dallas/Fort Worth International Airport Board, grantee of Foreign-Trade Zone 39, has made application to the Board for authority to establish a special-purpose subzone at the helicopter engine repair and manufacturing facility of Turbomeca U.S.A., located in Grand Prairie, Texas (FTZ Docket 4-2004, filed 2/20/04);

Whereas, notice inviting public comment was given in the Federal Register (69 FR 9583-9584, 3/1/04); and,

Whereas, the Board adopts the findings and recommendations of the examiner's report, and finds that the requirements of the FTZ Act and the Board's regulations are satisfied, and that approval of the application is in the public interest;

Now, therefore, the Board hereby grants authority for subzone status at the helicopter engine repair and manufacturing facility of Turbomeca U.S.A., located in Grand Prairie, Texas (Subzone 39I), at the location described in the application, and subject to the FTZ Act and the Board's regulations, including § 400.28.

Signed in Washington, DC, this 22nd day of December, 2004.
Joseph A. Spetrini,
Acting Assistant Secretary of Commerce for Import Administration, Alternate Chairman, Foreign-Trade Zones Board.
Attest: Pierre V. Duy, Acting Executive Secretary.

[FR Doc. 05-936 Filed 1-14-05; 8:45 am]

BILLING CODE 3510-DS-P